DEPARTMENT OF JUSTICE

Antitrust Division

Notice Pursuant to the National Cooperative Research and Production Act of 1993—USB Implementers Forum, Inc.

Notice is hereby given that, on November 23, 2005, pursuant to section 6(a) of the National Cooperative Research and Production Act of 1993, 15 U.S.C. 4301 et seq. (“the Act”), USB Implementers Forum, Inc. (“USB-IF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: USB Implementers forum, Inc., Portland, OR. The nature and scope of USB-IF's standards development activities are: providing a support organization and forum for the advancement and adoption of USB technology, by facilitating the development of high quality compatible USB devices and promoting USB to accelerate end-user demand for USB products through increaded public awareness of the benefits of USB and the quality of products that have passed compliance testing. These purposes include:

(i) Defining, establishing and supporting a USB-product review program, testing protocol and logo-licensing program in support of the USB Primary Specifications (as defined below) and to foster and encourage the voluntary adoption of accurate labels, tests, and specifications by developers and test houses of products and services which utilize USB;

(ii) Developing and distributing specifications and other documents that augment, enhance or extend the USB Primary Specifications for the purposes of enabling and promoting increased interoperability and reliability among USB products; provided, however, that USB-IF's purposes do not include amending or developing USB Primary Specifications (the “USB Primary Specifications” include the USB Specification, the On-Tghe-Go Supplement, the Wireless USB Specification, and any other USB specification that USB—IF promoter members jointly designate a “USB Primary Specification”);

(iii) Providing a forum and environment whereby the members of the corporation may meet to review requirements for product interoperability and general usability;

(iv) Educating the business and consumer communities as to the value, benefits and applications for USB-based products through the web site, public statements, publications, tradeshow demonstrations, seminar sponsorships and other programs established by USB-IF;

(v) Protecting the needs of consumers, promoting ease of use, and increasing competition among vendors by supporting the creating and implementation of reliable, uniform, industry-standard compliance test procedures and processes which support the interoperability of USB-based products and services;

(vi) Maintaining relationships and liaison with educational institutions, government research institutes, other technology consortia, and other organizations that support and contribute to the development of specifications and standards for USB-based products; and

(vii) Fostering competition in the development of new products and services based on USB Primary Specifications, in conformance with all applicable antitrust laws and regulations.

Dorothy B. Fountain,
Deputy Director of Operations, Antitrust Division.

[FR Doc. 05-24093 Filed 12-14-05; 8:45 am]

BILLING CODE 4418-11-M